ENVIRONMENTAL PROTECTION AGENCY

[FRL-9286-3]

Science Advisory Board Staff Office; Notification of a Public Teleconference of the Clean Air Scientific Advisory Committee (CASAC)

AGENCY: Environmental Protection Agency (EPA).

ACTION: Notice.

SUMMARY: The Environmental Protection Agency (EPA) Science Advisory Board (SAB) Staff Office announces a public teleconference of the Clean Air Scientific Advisory Committee (CASAC) to conduct a quality review and approve draft reports from the CASAC Oxides of Nitrogen (NOX) and Sulfur Oxides (SOX) Secondary Review Panel (NOX-SOX Panel) and the CASAC Air Monitoring and Methods Subcommittee (AMMS).

DATES: The public teleconference will be held on May 12, 2011 from 9 a.m. to 11 a.m. (Eastern Time).

ADDRESSES: The public teleconference will be conducted by telephone only.

FOR FURTHER INFORMATION CONTACT: Any member of the public who wants further information concerning the teleconference may contact Dr. Holly Stallworth, Designated Federal Officer (DFO), EPA Science Advisory Board (1400R), U.S. Environmental Protection Agency, 1300 Pennsylvania Avenue, NW., Washington, DC 20460; via telephone/voice mail (202) 564-2073; fax (202) 565-2098; or e-mail at stallworth.holly@epa.gov. General information concerning the CASAC can be found on the EPA Web site at http://www.epa.gov/casac.

SUPPLEMENTARY INFORMATION:

Background: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Section 109(d)(1) of the CAA requires that the Agency periodically review and revise, as appropriate, the air quality criteria and the NAAQS for the six “criteria” air pollutants, including Oxides of Nitrogen and Oxides of Sulfur.

As noticed in 76 FR 4109-4110, the NOX-SOX Panel held a public meeting on February 15-16, 2011 to review EPA's Policy Assessment for the Review of the Secondary National Ambient Air Quality Standards for Oxides of Nitrogen and Oxides of Sulfur (February 2011). On May 12, 2011, CASAC will review the draft report of the NOX-SOX Panel that provides advice on issues identified in the policy assessment.

As noticed in 76 FR 4346, the AMMS met on February 16, 2011 to review and provide advice on the scientific adequacy and appropriateness of EPA's draft documents on monitoring and methods for Oxides of Nitrogen (NOX) and Sulfur (SOxX). As noticed in 76 FR 12732-12733, the AMMS also held a public teleconference on March 29, 2011 to review and finalize its draft report.

The draft reports of the NOX-SOX Panel and the AMMS will be posted at the CASAC Web site. To access these draft reports, go to the CASAC Web site at http://www.epa.gov/casac and click on the calendar link for May 12, 2011 on the blue navigation bar.

Technical Contact and URL for EPA's Policy Assessment for the Review of the Secondary National Ambient air Quality Standards for Oxides of Nitrogen and Oxides of Sulfur (February 2011): Any technical questions concerning the above-referenced policy assessment can be directed to Dr. Richard Scheffe at scheffe.rich@epa.gov or 919-541-4650. The document is posted at http://yosemite.epa.gov/sab/sabproduct.nsf/bf498bd32a1c7fdf85257242006dd6cb/7f4c00f9da9bb75e852577ed005f026c!OpenDocument&Date=2011-02-15.

Technical Contact and URL for EPA's Monitoring Documents for NOX and SOX: Any technical questions concerning EPA's draft monitoring documents for NOX and SOx and proposed methods for assessing levels of nitrogen and sulfur deposition should contact Dr. Richard Scheffe at scheffe.rich@epa.gov or 919-541-4650. Review documents on NOX and SOX monitoring can be assessed at http://yosemite.epa.gov/sab/sabproduct.nsf/bf498bd32a1c7fdf85257242006dd6cb/eea38cc34cc1f86f8525781d005866e6!OpenDocument&Date=2011-02-16.

Availability of Meeting Materials: A meeting agenda and other materials for the meeting will be placed on the CASAC Web site on the Web page reserved for the May 12, 2011 teleconference, accessible through the calendar link on the blue navigation sidebar at http://www.epa.gov/casac.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit comments for a federal advisory committee to consider as it develops advice for EPA. Input from the public to CASAC will have the most impact if it consists of comments that provide specific scientific or technical information or analysis for CASAC to consider or if it relates to the clarity or accuracy of the technical information included. Members of the public wishing to provide comment should contact the Designated Federal Officer directly.

Oral Statements: To be placed on the public speaker list for the teleconference, interested parties should notify Dr. Holly Stallworth, DFO, by e-mail no later than May 5, 2011. Individuals making oral statements will be limited to three minutes per speaker.

Written Statements: Written statements for the teleconference should be received in the SAB Staff Office by May 5, 2011 so that the information may be made available to the CASAC for its consideration prior to this teleconference. Written statements should be supplied to the DFO via e-mail (acceptable file format: Adobe Acrobat PDF, MS Word, WordPerfect, MS PowerPoint, or Rich Text files in IBM-PC/Windows 98/2000/XP format). It is the SAB Staff Office policy to post written comments on the Web page for the advisory meeting or teleconference. Members of the public should be aware that their personal contact information, if included in any written comments, may be posted to the SAB Web site. Copyrighted material will not be posted without explicit permission of the copyright holder.

Accessibility: For information on access or services for individuals with disabilities, please contact Dr. Stallworth at the phone number or e-mail address noted above, preferably at least ten days prior to the teleconference, to give EPA as much time as possible to process your request.

Dated: March 16, 2011.
Anthony F. Maciorowski,
Deputy Director, EPA Science Advisory Board Staff Office.

[FR Doc. 2011-7092 Filed 3-24-11; 8:45 am]

BILLING CODE 6560-50-P